DEPARTMENT OF COMMERCE

Foreign-Trade Zones Board

[Docket 4-2003]

Foreign-Trade Zone 2—New Orleans, LA Expansion of Manufacturing Authority—Subzone 2J Murphy Oil USA, Inc., Meraux, LA

An application has been submitted to the Foreign-Trade Zones Board (the Board) by the Port of New Orleans, grantee of FTZ 2, requesting authority on behalf of Murphy Oil USA, Inc. (Murphy), to expand the scope of manufacturing activity conducted under zone procedures within Subzone 2J at the Murphy oil refinery complex in Meraux, Louisiana. The application was submitted pursuant to the provisions of the Foreign-Trade Zones Act, as amended (19 U.S.C. 81a-81u), and the regulations of the Board (15 CFR part 400). It was formally filed on January 17, 2003.

Subzone 2J (620 acres, 250 employees) was approved by the Board in 1997 and is located at 2500 East St. Bernard Highway, Meraux, St. Bernard Parish, Louisiana. Authority was granted for the manufacture of fuel products and certain petrochemical feedstocks and refinery by-products (Board Order 895, (62 FR 32582, 6/16/97)).

The refinery (105,000 barrels per day) is used to produce fuels and petrochemical feedstocks. The expansion request involves several modified and upgraded processing units. Murphy has been expanding and modifying several units to allow for the processing of high-sulfur crude into low-sulfur gasoline and diesel fuels. The new facilities will increase the overall capacity of the refinery to 125,000 BPD. The feedstocks used and product slate will remain unchanged. Some 96 percent of the crude oil will be sourced from abroad.

Zone procedures would exempt the new refinery facilities from Customs duty payments on the foreign products used in its exports. On domestic sales, the company would be able to choose the Customs duty rates for certain petrochemical feedstocks (duty-free) by admitting foreign crude oil in non-privileged foreign status. The application indicates that the savings from zone procedures help improve the refinery's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230. The closing period for their receipt is March 31, 2003. Rebuttal comments in response to material submitted during the foregoing period may be submitted during the subsequent 15-day period (to April 15, 2003).

A copy of the application and accompanying exhibits will be available for public inspection at the Office of the Foreign-Trade Zones Board's Executive Secretary at the first address listed above, and at the U.S. Department of Commerce Export Assistance Center, 365 Canal Street, Suite 1170 New Orleans, LA 70130.

Dated: January 22, 2003.
Dennis Puccinelli,
Executive Secretary.

[FR Doc. 03-2106 Filed 1-29-03; 8:45 am]

BILLING CODE 3510-DS-P